DEPARTMENT OF ENERGY

Cancellation of the Environmental Impact Statement for the Mountaineer Commercial Scale Carbon Capture and Storage Project, Mason County, WV

AGENCY: U.S. Department of Energy.

ACTION: Notice of Cancellation of Environmental Impact Statement.

SUMMARY: The U.S. Department of Energy's (DOE) Office of Fossil Energy is cancelling the environmental impact statement (EIS) under the National Environmental Policy Act of 1969 (NEPA) for the Mountaineer Commercial Scale Carbon Capture and Storage (CCS) Project in Mason County, WV (DOE/EIS-0445). DOE selected this project proposed by American Electric Power (AEP) under the Round 3 solicitation of the Clean Coal Power Initiative. DOE's proposed action was to provide $334 million in cost-shared financial assistance to AEP to support the construction and operation of AEP's proposed project.

FOR FURTHER INFORMATION CONTACT: For further information on the cancellation of this EIS, contact Mark W. Lusk, NEPA Document Manager, U.S. Department of Energy, National Energy Technology Laboratory, 3610 Collins Ferry Road, M/S B07, P.O. Box 880, Morgantown, WV 26507-0880; by email at Mark.Lusk@netl.doe.gov; toll-free number at 1-(800) 553-7681; or facsimile at (304) 285-4403. For general information on the DOE's NEPA review process, contact Carol M. Borgstrom, Director, Office of NEPA Policy and Compliance, GC-54, U.S. Department of Energy, 1000 Independence Avenue SW., Washington, DC 20585-0119, telephone (202) 586-4600 or 1-(800) 472-2756, facsimile (202) 586-7031.

SUPPLEMENTARY INFORMATION: The DOE's Office of Fossil Energy is cancelling the EIS for the proposed Mountaineer Commercial Scale CCS Project in Mason County, WV. DOE selected this project, as proposed by AEP, under a competitive solicitation in Round 3 of the Clean Coal Power Initiative. DOE's proposed action was to provide $334 million in cost-shared financial assistance to AEP to support the construction and operation of AEP's proposed project. On June 7, 2010, DOE announced its intent (75 FR 32171) to prepare an environmental impact statement for the proposed project and held a public scoping meeting.

The U.S. Environmental Protection Agency announced the availability of the Draft Environmental Impact Statement for the Mountaineer Commercial Scale Carbon Capture and Storage Project (DOE/EIS-0445D) for public review and comment on March 4, 2011 (76 FR 12108). DOE also announced availability of the draft EIS and provided the location and time for a public hearing in a separate announcement on March 11, 2011 (76 FR 13396). The planned public hearing was postponed in late March 2011 due to the uncertainty of AEP's plans. DOE received a letter from AEP, dated July 7, 2011, announcing its intent to terminate its cooperative agreement with DOE at the end of Phase I, “Project Definition,” citing unfavorable economic conditions and regulatory uncertainty. AEP completed its Phase I obligations to DOE and is in the process of completing final reporting in accordance with the cooperative agreement.

Issued in Pittsburgh, PA, on December 20, 2011.
Anthony V. Cugini,
Director, National Energy Technology Laboratory, Office of Fossil Energy.

[FR Doc. 2012-1351 Filed 1-23-12; 8:45 am]

BILLING CODE 6450-01-P